DEPARTMENT OF LABOR

Employment and Training Administration

[General Administration Letter No. 1-01]

Office of Workforce Services, Foreign Labor Certification; General Administration Letter Clarifying Procedural Guidance Regarding Worker Rejection and Termination From H-2A Temporary, Alien Agricultural Employment

The Employment and Training Administration interprets Federal law requirements pertaining to foreign labor certification as part of its role in the administration of the H-2A temporary alien agricultural labor certification program. These interpretations are issued in General Administration Letters (GAL's) to the State Employment Security Agencies. The GAL described below is published in the Federal Register in order to inform the public.

GAL No. 1-01

GAL No. 1-01, provides policy clarification and procedural guidance for the notification process between employers and the State Employment Security Agency (SESA) regarding worker rejection and termination from H-2A temporary agricultural employment. It also provides answers to questions raised by State Employment Security Agencies and other interested parties.

Dated: March 22, 2001.
Raymond J. Uhalde,
Deputy Assistant Secretary of Labor.

Attachment

Department of Labor

Employment and Training Administration

Classification: H-2A.

Correspondence Symbol: OWS.

Date: October 30, 2000.

DIRECTIVE: General Administrative Letter No. 1-01

TO: All State Employment Security Agencies

FROM: Wendy L. McConnell for Lenita Jacobs-Simmons, Deputy Assistant Secretary

SUBJECT: Notification to State Office Regarding Worker Rejection or Termination from H-2A Temporary Agricultural Employment

1. Purpose. To provide policy clarification and procedural guidance for the notification process between employers and the State Employment Security Agency (SESA) regarding worker rejection and termination from H-2A temporary agricultural employment.

2. References. 20 CFR part 655, Subpart B and 20 CFR 655.103

3. Background. The H-2A Regulations at CFR 655.103 require employers to notify the designated SESA Office of any voluntary or involuntary worker departure from job site. Issues have arisen with regard to the timing of employer notification to the SESA when the workers leave employment.

4. Policy Clarification/Procedural Guidance. In keeping with the long standing interpretation by INS, abandonment of employment by a worker requires employer notification in writing to the SESA no later than forty-eight (48) hours after the employer becomes aware of abandonment. In the event of the employer terminating worker(s) for cause, the employer will notify the SESA in writing of such termination no later than forty-eight (48) hours.

5. Action Required. SESAs are strongly encouraged to adhere to the established procedure and to communicate to the employer community of their corresponding responsibility for the timely notification to the SESA central office of worker abandonment or termination from H-2A temporary agricultural employment.

6. Inquiries. H-2A employer notification procedure questions should be directed to Charlene Giles at (202) 693-2950 (3-2950).

Rescissions: None.

Expiration Date: October 31, 2003.

[FR Doc. 01-8343 Filed 4-4-01; 8:45 am]

BILLING CODE 4510-30-M